DEPARTMENT OF LABOR

Mine Safety and Health Administration

Petitions for Modification

The following parties have filed petitions to modify the application of existing safety standards under section 101(c) of the Federal Mine Safety and Health Act of 1977.

1. Mammoth Coal Company

[Docket No. M-2005-039-C]

Mammoth Coal Company, P.O. Box 120, Leviasy, West Virginia 26676 has filed a petition to modify the application of 30 CFR 75.1002 (Installation of electric equipment and conductors; permissibility) to its Winifrede #1 Mine (MSHA I.D. No. 46-08867) located in Kanawha County, West Virginia. The petitioner proposes to use 2,300 volts to operate the Joy Technologies, Inc., (Joy) continuous miner. The petitioner states that the nominal voltage of the power circuits for the new miners will not exceed 2,300 volts, the nominal voltage of the control circuits will not exceed 120 volts, and all electrical personnel will receive training before the proposed alternative method is implemented. The petitioner also proposes to use a 2,400 volt power center to power a continuous miner with high voltage trailing cable inby the last open crosscut and within 150 feet of pillar workings. The petitioner asserts that application of the existing standard will result in a diminution of safety and that the proposed alternative method would provide at least the same measure of protection as the existing standard.

2. Foundation Coal West

[Docket No. M-2005-040-C]

Foundation Coal West, P.O. Box 3040, Gillette, Wyoming 82717-3040 has filed a petition to modify the application of 30 CFR 77.802 (Protection of high-voltage circuits; neutral grounding resistors; disconnecting devices) to its Belle Ayr Mine (MSHA I.D. No. 48-00732) and Eagle Butte Mine (MSHA I.D. No. 48-01078) both located in Campbell County, Wyoming. The petitioner requests a modification of the existing standard to permit an alternative method of compliance for the grounding of a diesel electric generator. The petitioner proposes to use a portable diesel powered electric generator for temporary power and/or to move electrically powered mining equipment in and around the mine. The petitioner asserts that the proposed alternative method would provide at least the same measure of protection as the existing standard.

3. McElroy Coal Company

[Docket No. M-2005-041-C]

McElroy Coal Company, 1800 Washington Road, Pittsburgh, Pennsylvania 15241 has filed a petition to modify the application of 30 CFR 75.507 (Power connection points) to its McElroy Mine (MSHA I.D. No. 46-01437) located in Marshall County, West Virginia. The petitioner proposes to use non-permissible submersible pumps installed in bleeder and return entries and sealed areas of the McElroy Mine. The petitioner has listed specific procedures in this petition that will be followed when the proposed alternative method is implemented. The petitioner asserts that the proposed alternative method would provide at least the same measure of protection as the existing standard.

4. Consolidation Coal Company

[Docket No. M-2005-042-C]

Consolidation Coal Company, 1800 Washington Road, Pittsburgh, Pennsylvania 15241 has filed a petition to modify the application of 30 CFR 75.507 (Power connection points) to its Shoemaker Mine (MSHA I.D. No. 46-01436) located in Marshall County, West Virginia. The petitioner proposes to use non-permissible submersible pumps installed in bleeder and return entries and sealed areas of the Shoemaker Mine. The petitioner has listed specific procedures in this petition that will be followed when the proposed alternative method is implemented. The petitioner asserts that the proposed alternative method would provide at least the same measure of protection as the existing standard.

Request for Comments

Persons interested in these petitions are encouraged to submit comments via Federal eRulemaking Portal: http://www.regulations.gov; E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before July 21, 2005. Copies of these petitions are available for inspection at that address.

Dated at Arlington, Virginia this 15th day of June 2005.
Rebecca J. Smith,
Acting Director, Office of Standards, Regulations, and Variances.

[FR Doc. 05-12184 Filed 6-20-05; 8:45 am]

BILLING CODE 4510-43-P